DEPARTMENT OF ENERGY

Agency Information Collection Extension

AGENCY: Department of Energy.

ACTION: Submission for Office of Management and Budget (OMB) review; comment request.

SUMMARY: The Department of Energy (DOE) has submitted an information collection request to the OMB for extension under the provisions of the Paperwork Reduction Act of 1995. The information collection request is submitted for a three-year extension of its Contractor Legal Management Requirements, OMB Control Number 1910-5115. This information collection request covers information necessary to aid contractors and DOE personnel in making determinations regarding the reasonableness of all outside legal costs, including the costs of litigation.

DATES: Comments regarding this collection must be received on or before August 1, 2007. If you anticipate that you will be submitting comments, but find it difficult to do so within the period of time allowed by this notice, please advise the OMB Desk Officer of your intention to make a submission as soon as possible. The Desk Officer may be telephoned at 202-395-4650.

ADDRESSES: Written comments should be sent to: OMB DOE Desk Officer, Office of Information and Regulatory Affairs, Office of Management and Budget, New Executive Office Building, Room 10102, 735 17th Street, NW., Washington, DC 20503.

Comments should also be addressed to: Anne Broker, Office of the General Counsel, GC-12, U.S. Department of Energy, 1000 Independence Ave., SW., Washington, DC 20585-1290, or by fax at (202) 586-0325, or by e-mail at anne.broker@hq.doe.gov.

FOR FURTHER INFORMATION CONTACT: Requests for additional information should be directed to Anne Broker, U.S. Department of Energy, Office of the General Counsel, GC-12, 1000 Independence Avenue, SW., Washington, DC 20585-1290, telephone (202) 586-5060. E-mail: anne.broker@hq.doe.gov.

SUPPLEMENTARY INFORMATION: This information collection request contains: (1) OMB No. 1910-5115; (2) Information Collection Request Title: Contractor Legal Management Requirements; (3) Type of Review: Renewal; (4) Purpose: The collection of this information continues to be necessary to provide a basis for DOE decisions on requests from applicable contractors for reimbursement of litigation and other legal expenses; (5) Type of respondents: Contractors at government owned or leased facilities that are required to submit a legal management plan under 10 CFR part 719; (6) Estimated Number of Respondents: 36; (7) Estimated Total Burden Hours: the burden hours for this collection are estimated to be approximately 465 to 570 hours on an annual basis. This estimate is based on the estimate that the preparation of the initial plan is 15-30 hours and that no more than 20% of the 36 contractors will need to submit a legal management plan in any given year. The estimate for the total also includes an estimate of approximately 10 hours for an annual budgetary update, which would be submitted by all contractors; (8) Number of Information Collections: One.

Statutory Authority: These requirements are promulgated under authority in section 161 of the Atomic Energy Act of 1954, 42 U.S.C. 2201; the Department of Energy Organization Act, 42 U.S.C. 7101, et seq.; and the National Nuclear Security Administration Act, 50 U.S.C. 2401, et seq.

Issued in Washington, DC, on June 26, 2007.
David R. Hill,
General Counsel.

[FR Doc. E7-12732 Filed 6-29-07; 8:45 am]

BILLING CODE 6450-01-P